ENVIRONMENTAL PROTECTION AGENCY

[FRL-6913-5]

Notice of Hearing

AGENCY: Environmental Protection Agency.

ACTION: Notice of hearing.

SUMMARY: This Notice announces that Kanoria Chemicals and Industries, Ltd., (Kanoria), has filed objections to a Notice of Intent to Suspend Registration of Pesticide Product(s) Containing Lindane, namely Lindane Technical Crystals (EPA Reg. No. 66951-1) and Lindane Technical Powder (EPA Reg. No. 66951-2), and has requested a hearing thereon. The Notice of Intent to Suspend was issued for Kanoria's alleged failure to comply with a Lindane Data Call-In Notice dated March 31, 1997, issued under Section 3(c)(2)(B) of the Federal Insecticide, Rodenticide and Fungicide Act (FIFRA). This Notice also announces that a hearing will commence in Washington D.C. on January 9, 2001, pursuant to Kanoria's request for hearing.

DATES: Motions to intervene in the hearing announced by this Notice must be received by the Office of the Hearing Clerk at the address provided below by December 15, 2000. The hearing will commence on January 9, 2001, and will continue if necessary on January 10-12, 2001.

ADDRESSES: Motions to intervene, identified by FIFRA Data Docket No. 216, must be filed with Bessie Hammiel, Headquarters Hearing Clerk, Mail Code 1900, U.S. Environmental Protection Agency, 1200 Pennsylvania Ave., N.W., Washington, D.C. 20460; and copies served by mail on: (1) Chief Administrative Law Judge Susan L. Biro, Mail Code 1900L, U.S. Environmental Protection Agency, 1200 Pennsylvania Ave., N.W., Washington, D.C. 20460; (2) Scott B. Garrison, Pesticides and Toxic Substances Law Office, Office of General Counsel, Mail Code 2333A, U.S. Environmental Protection Agency, 1200 Pennsylvania Ave., N.W., Washington, D.C. 20460; and (3) Peter E. Seley, Gibson, Dunn & Crutcher, LLP, 1050 Connecticut Avenue, N.W., Washington D.C. 20036-5306.

The hearing will be held in the Ariel Rios Building, Room 7208, 1200 Pennsylvania Avenue, N.W., Washington, D.C. 20460.

FOR FURTHER INFORMATION CONTACT: By mail: Bessie Hammiel, Headquarters Hearing Clerk, Mail Code 1900, U.S. Environmental Protection Agency, 1200 Pennsylvania Ave., N.W., Washington, D.C. 20460. Office location: Office of the Hearing Clerk, Room C400, 401 M St. S.W., Washington D.C. 20460. Telephone: (202) 260-4865.

SUPPLEMENTARY INFORMATION:

I. Legal Authority

Under Section 3(c)(2)(B) of FIFRA, if EPA determines that additional data are required to maintain in effect an existing registration of a pesticide, EPA notifies all existing registrants of the pesticide in a “FIFRA Data Call-in Notice,” requiring each registrant to provide evidence within ninety days that it is taking appropriate steps to secure the additional data. If a registrant fails to comply, EPA may issue a notice of intent to suspend the registration of the pesticide for which additional data was required. The suspension becomes final and effective thirty days from receipt by the registrant of the notice of intent to suspend, unless within that time period: (1) The registrant demonstrates that it has fully complied with the requirements that served as a basis for the notice to suspend, or (2) a request for hearing is made by a person adversely affected by the notice. FIFRA Section 3(c)(2)(B)(iv).

II. Hearing Procedures

Pursuant to Section 3(c)(2)(B)(iv) of FIFRA, if a hearing is requested, the hearing shall be conducted in accordance with FIFRA section 6(d). Regulations implementing the hearing procedures are set forth in 40 C.F.R. part 164, subpart B.

A. Issues To Be Adjudicated

Pursuant to Section 3(c)(2)(B)(iv) of FIFRA, two issues to be adjudicated are: (1) Whether Kanoria has failed to comply with the terms of a Data Call-In Notice dated March 31, 1997, as to Lindane Technical Crystals (EPA Reg. No. 66951-1) and Lindane Technical Powder (EPA Reg. No. 66951-2); and (2) whether EPA's prohibition on distribution, sale, use offering for sale, holding for sale, shipping, delivering for shipment, receipt and (having so received) delivering or offering to deliver existing stocks of Lindane Technical Crystals and Lindane Technical Powder, is inconsistent with the terms of FIFRA. The Notice of Intent to Suspend, dated October 10, 2000, provides that after the suspension becomes final and effective, the registrant, including all supplemental registrants of Lindane Technical Crystals (EPA Reg. No. 66951-1) and Lindane Technical Powder (EPA Reg. No. 66951-2), are subject to the prohibition.

B. Participation in the Hearing

Any interested person may file a motion for leave to intervene in the hearing. Such motion must set forth the grounds for the proposed intervention, the position and interest of the movant in the proceeding and documents proposed to be filed relating to the Notice of Intent to Suspend the Registration of Lindane Technical Crystals (EPA Reg. No. 66951-1) and Lindane Technical Powder (EPA Reg. No. 66951-2). Such motion must be filed on or before December 15, 2000, or it must also set forth a statement of good cause for the failure to file the motion prior to that date. If leave to intervene is granted, the movant becomes a party to the proceeding with the full status of the original parties. If leave is denied, the movant may request that the ruling be certified to the Environmental Appeals Board, pursuant to § 164.200. 40 CFR § 164.31.

Persons not parties to the proceeding may file amicus briefs upon motion granted by the Administrative Law Judge. Such motion shall identify the interest of the applicant and shall state the reasons why the proposed amicus brief is desirable. Id.

C. Scheduling

Section 3(c)(2)(B)(iv) of FIFRA requires that a hearing shall be held and a determination issued within seventy-five (75) days after receipt of a request for hearing. The petitioner's request for hearing was received on or about November 13, 2000. In order to fulfill the 75-day time limit, the hearing is scheduled to commence on January 9, 2001. Accordingly, the parties are scheduled to submit prehearing exchanges on December 15, 2000, and rebuttals thereto on December 22, 2000. Pre-trial motions, stipulations and verified statements are due on December 29, 2000.

The 75-day period may be extended if all parties to the proceeding stipulate to such an extension. The date for commencement of the hearing, and the prehearing schedule, are subject to postponement, continuation or cancellation upon short notice. Such dates should be confirmed by contacting Bessie Hammiel at (202) 260-4865.

III. Public Docket

The public docket containing the case file in the matter referenced above (FIFRA Data Docket No. 216) is located at: Office of the Hearing Clerk, Room C400, 401 M St. S.W., Washington D.C. 20460. The case file can be viewed from 8 a.m. to 4:30 p.m., Monday through Friday, except legal holidays.

(Authority: 38 FR 19371, 40 CFR 164.8)
Susan L. Biro,
Chief Administrative Law Judge.

[FR Doc. 00-31193 Filed 12-6-00; 8:45 am]

BILLING CODE 6560-50-P